DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before August 21, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety, General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on August 4, 2025.
T. Glenn Foster,
Chief, Regulatory Review and Reinvention Branch, Office of Hazardous Materials Safety, Pipeline and Hazardous Materials Safety Administration.

Application No. | Applicant | Regulation(s) affected | Nature of the special permits thereof
Special Permits Data
15999-M | National Aeronautics and Space Administration | 172.300, 172.400, 173.1 | To modify the special permit to authorize additional hazardous materials.
16606-M | 5-state Helicopters, Inc | 172.301(c), 172.302(c), 175.30 | To modify the special permit to authorize an additional hazardous material.
20845-M | Lithos Energy, Inc | 173.185(a), 173.185(b) | To modify the special permit to authorize additional modules comprised of additional types of cells tested in accordance with the UN Manual of Tests and Criteria, Part II, subsection 38. (mode 5).
21552-M | Veolia ES Technical Solutions, LLC | 172.320, 173.56(b) | To modify the special permit to authorize use of plain water as an alternative soaking solution. (mode 1).
21607-M | Amazon.com, Inc | 172.200(b)(3), 172.315(a)(2), 176.30 | To modify the special permit to authorize use by third-party logistics providers that utilize the grantee's hazardous materials classification system and customer fulfillment technologies in the Amazon Fulfillment Network. (modes 1, 2).
21774-M | American Airlines, Inc | 172.203(a), 172.301(c), 173.309(c) | To modify the special permit to authorize an alternative outer packaging. (modes 1, 2, 3, 4, 5).
22004-M | VFT, LLC | 172.101(j)(1), 172.200, 172.204(c)(3), 172.300, 172.301(c), 172.400, 173.27(b)(2), 175.1, 175.30(a)(1), 175.75 | To modify the special permit to extend the expiration date and to increase the geographic area of the special permit. (mode 4).

[FR Doc. 2025-14939 Filed 8-5-25; 8:45 am]

BILLING CODE 4910-60-P